NATIONAL CREDIT UNION ADMINISTRATION

Sunshine Act Meeting

Time and Date: 10 a.m., Thursday, February 16, 2006.

Place: Board Room, 7th Floor, Room 7047, 1775 Duke Street, Alexandria, VA 22314-3428.

Status: Open.

Matters to be Considered: 1. Quarterly Insurance Fund Report.

2. Advance Notice of Proposed Rulemaking and Request for Comment: Part 715 of NUCA's Rules and Regulations, Supervisory Committee Audits.

Recess: 11:15 a.m.

Time and Date: 11:30 a.m., Thursday, February 16, 2006.

Place: Board Room, 7th Floor, Room 7047, 1775 Duke Street, Alexandria, VA 22314-3428.

Status: Closed.

Matters to be Considered: 1. Administrative Action under Section 206(h)(1)(A) of the Federal Credit Union Act. Closed pursuant to Exemptions (8), (9)(A)(ii), and (9)(B).

2. Request from a Corporate Federal Credit Union to Amend its Existing Waiver under Part 704 of NCUA's Rules and Regulations. Closed pursuant to Exemption (8).

For Further Information Contact: Mary Rupp, Secretary of the Board, Telephone: (703) 518-6304.

Mary Rupp,
Secretary of the Board.

[FR Doc. 06-1374 Filed 2-9-06; 3:45 pm]

BILLING CODE 7535-01-M